DEPARTMENT OF HEALTH AND HUMAN SERVICES

Centers for Disease Control and Prevention

Mine Safety and Health Research Advisory Committee, National Institute for Occupational Safety and Health (MSHRAC, NIOSH)

In accordance with section 10(a)(2) of the Federal Advisory Committee Act (Pub. L. 92-463), the Centers for Disease Control and Prevention (CDC) announces the following meeting for the aforementioned committee:

Time and Date:

8:15 a.m.—5:15 p.m., June 3, 2009.

8:00 a.m.—1:30 p.m., June 4, 2009.

Place: The Madison, a Loews Hotel, 1177 Fifteenth St. NW., Washington, DC 20005, telephone (202)862-1600, fax (202)587-2696.

Status: Open to public, limited only by the space available. The meeting room accommodates approximately 50 people.

Purpose: This committee is charged with providing advice to the Secretary, Department of Health and Human Services; the Director, CDC; and the Director, NIOSH, on priorities in mine safety and health research, including grants and contracts for such research, 30 U.S.C. 812(b)(2), section 102(b)(2).

Matters To Be Discussed: The meeting will focus on medical surveillance of coal miners, study of lung cancer and diesel exhaust in mines, update on mine escape and rescue topics, rock mechanics and ground control research program, mining machines and update on deep cover retreat mining research.

Agenda items are subject to change as priorities dictate.

Contact Person for More Information: Jeffery L. Kohler, Ph.D., Executive Secretary, MSHRAC, NIOSH, CDC, 626 Cochrans Mill Road, telephone (412)386-5301, fax (412)386-5300.

The Director, Management Analysis and Services Office, has been delegated the authority to sign Federal Register notices pertaining to announcements of meetings and other committee management activities for both CDC and the Agency for Toxic Substances and Disease Registry.

Dated: May 4, 2009.
Elaine L. Baker,
Director, Management Analysis and Services Office, Centers for Disease Control and Prevention.

[FR Doc. E9-10740 Filed 5-7-09; 8:45 am]

BILLING CODE 4163-18-P